DEPARTMENT OF HOMELAND SECURITY

U.S. Customs and Border Protection

Suspension of Altol Chemical and Environmental Laboratory as a Customs-Accredited Laboratory

AGENCY: U.S. Customs and Border Protection, Department of Homeland Security.

ACTION: General notice of suspension of Altol Chemical and Environmental Laboratory as a Customs-accredited laboratory.

SUMMARY: Altol Chemical and Environmental Laboratory has been suspended, pursuant to CBP regulations, from testing petroleum and petroleum products for customs purposes.

DATES: Effective Dates: Suspension effective June 5, 2015. Suspension will lift no earlier than September 3, 2015 and only after CBP auditors verify satisfactory compliance.

FOR FURTHER INFORMATION CONTACT: Approved Gauger and Accredited Laboratories Manager, Laboratories and Scientific Services Directorate, U.S. Customs and Border Protection, 1300 Pennsylvania Avenue NW., Suite 1500N, Washington, DC 20229, tel. 202-344-1060.

SUPPLEMENTARY INFORMATION: Pursuant to 19 CFR 151.12, Altol Chemical and Environmental Laboratory, Sabanetas Industrial Park Building M-1380, Ponce, PR 00715, has been suspended from testing petroleum and petroleum products for customs purposes, in accordance with the provisions of 19 CFR 151.12, specifically pursuant to 19 CFR 151.12(k)(1)(ii)(D) for violation of 19 CFR 151.12(c)(5), for failure to maintain the obligations as a CBP Accredited Laboratory. The laboratory must undergo another CBP audit at the end of the suspension to ensure that all corrective actions have been addressed to CBP's satisfaction. The facility is directed to cease performing any Customs-accredited functions during this time period. CBP reserves the right to inspect any aspect of Altol Chemical and Environmental Laboratory's regulatory obligations and operations during the suspension period.

Anyone wishing to employ this entity to conduct laboratory analyses for customs purposes after the 90 day suspension period should request and receive written assurances from the entity that it is accredited by the U.S. Customs and Border Protection to conduct the specific test requested. Alternatively, inquiries regarding the entity's CBP status or the specific test this entity is accredited to perform may be directed to the U.S. Customs and Border Protection by calling (202) 344-1060. The inquiry may also be sent to cbp.labhq@dhs.gov. Please reference the Web site listed below for a complete listing of CBP approved gaugers and accredited laboratories.

http://www.cbp.gov/about/labs-scientific/commercial-gaugers-and-laboratories

Dated: June 1, 2015.
Ira S. Reese,
Executive Director, Laboratories and Scientific Services Directorate.

[FR Doc. 2015-13753 Filed 6-4-15; 8:45 am]

BILLING CODE 9111-14-P